DEPARTMENT OF HEALTH AND HUMAN SERVICES

Food and Drug Administration

[Docket Nos. FDA-2009-N-0221; FDA-2012-N-0559; FDA-2015-N-3287; FDA-2015-N-3815; FDA-2007-D-0429; FDA-2012-N-0447; FDA-2011-D-0597; FDA-2011-D-0164; FDA-2013-N-0013; FDA-2011-N-0146; FDA-2014-N-1533; FDA-2011-N-0921; FDA-2015-N-2163]

Agency Information Collection Activities; Announcement of Office of Management and Budget Approvals

AGENCY: Food and Drug Administration, HHS.

ACTION: Notice.

SUMMARY: The Food and Drug Administration (FDA) is publishing a list of information collections that have been approved by the Office of Management and Budget (OMB) under the Paperwork Reduction Act of 1995.

FOR FURTHER INFORMATION CONTACT: FDA PRA Staff, Office of Operations, Food and Drug Administration, Three White Flint North 10A63, 11601 Landsdown St., North Bethesda, MD 20852, PRAStaff@fda.hhs.gov.

SUPPLEMENTARY INFORMATION: The following is a list of FDA information collections recently approved by OMB under section 3507 of the Paperwork Reduction Act of 1995 (44 U.S.C. 3507). The OMB control number and expiration date of OMB approval for each information collection are shown in table 1. Copies of the supporting statements for the information collections are available on the Internet at http://www.reginfo.gov/public/do/PRAMain. An Agency may not conduct or sponsor, and a person is not required to respond to, a collection of information unless it displays a currently valid OMB control number.

Table 1—List of Information Collections Approved by OMB
Title of collection | OMB control No. | Date approval expires
Food Labeling: Notification Procedures for Statements on Dietary Supplements | 0910-0331 | 6/30/2019
PHS Guideline on Infectious Disease Issues in Xenotransplantation | 0910-0456 | 6/30/2019
MDUFMA Small Business Qualification Certification | 0910-0508 | 6/30/2019
Electronic Submission of Medical Device Registration and Listing | 0910-0625 | 6/30/2019
Guidance for Industry on Q & A Regarding Labeling of Nonprescription Human Drug Products Marketed Without an Approved Application as Required by the Dietary Supplement & Nonprescription Drug Consumer Protection Act | 0910-0641 | 6/30/2019
Antimicrobial Animal Drug Distribution Reports and Recordkeeping | 0910-0659 | 6/30/2019
Guidance for Industry on Oversight of Clinical Investigations: A Risk-Based Approach to Monitoring | 0910-0733 | 6/30/2019
Guidance for Industry on Safety Labeling Changes; Implementation of the Federal Food, Drug, and Cosmetic Act | 0910-0734 | 6/30/2019
Accreditation of Third Party Certification Bodies to Conduct Food Safety Audits and Issue Certifications | 0910-0750 | 6/30/2019
Sanitary Transportation of Human and Animal Food | 0910-0773 | 6/30/2019
National Panel of Tobacco Consumer Studies | 0910-0815 | 6/30/2019
Standards for the Growing, Harvesting, Packaging, and Holding of Produce for Human Consumption | 0910-0816 | 6/30/2019
Hearing, Aging, and Direct-to-Consumer Television Advertisements | 0910-0818 | 6/30/2019

Dated: July 6, 2016.
Leslie Kux,
Associate Commissioner for Policy.

[FR Doc. 2016-16349 Filed 7-8-16; 8:45 am]

BILLING CODE 4164-01-P